DEPARTMENT OF HEALTH AND HUMAN SERVICES

National Institutes of Health

Government-Owned Inventions; Availability for Licensing

AGENCY: National Institutes of Health, Public Health Service, DHHS.

ACTION: Notice.

SUMMARY: The inventions listed below are owned by agencies of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by contacting Susan S. Rucker, J.D., at the Office of Technology Transfer, National Institutes of Health, 6011 Executive Boulevard, Suite 325, Rockville, Maryland 20852-3804; telephone: 301/496-7056 ext. 245; fax: 301/402-0220; e-mail: ruckers@od.nih.gov. A signed Confidential Disclosure Agreement will be required to receive copies of the patent applications.

Interaction of AAV4 With Sialic Acid

JA Chiorini (NIDCR)

Serial No. E-131-01/0 filed Mar 28, 2001.

This patent application describes the ability of AAV4 (adeno-associated virus, serotype 4) to interact with particular alpha 2,3-linked sialic acid residues on susceptible cells. The 2,3-linked sialic acid residues constitute part of the cell surface receptor(s) for AAV4. The identification of these residues provides a means of identifying host cells which may be particularly suited as targets for gene therapy using AAV4-based vector systems. In addition, the identification of this interaction permits the development of new means of purifying AAV4 viral particles.

This work will be published, in part, at Kaludov, N. et al., J. Virol. (2001), in press.

Interaction of AAV5 With Sialic Acid

JA Chiorini (NIDCR)

Serial No. E-145-01/0 filed Mar 28, 2001.

This patent application describes the ability of AAV5 (adeno-associated virus, serotype 5) to interact with particular alpha 2,3-linked sialic acid residues on cells. These 2,3-linked sialic acid residues are part of the cell surface receptor(s) for AAV5. The identification of these residues as part of the AAV5 receptor, or receptor complex, provides a means of identifying host cells that may be particularly suited as targets for gene therapy using AAV5-based vector systems. In addition, the identification of this interaction permits the development of new means of purifying AAV5 viral particles.

This work has been published, in part, at Walters, RW et al., JBC 276 (No. 23) 20610-16 (June 8, 2001), and Kaludov, N. et al., J. Virol. (2001), in press.

Use of Activity Dependent Neurotrophic Factor Derived Peptides for Enhancing Learning and Memory

DE Brenneman and Catherine Spong (NICHD), Ilana Gozes (Tel Aviv University)Serial No/Ref: No.: E-147-96/8 (PCT) filed May 31, 2001 which claims priority to 60/267,805 (E-147-96/6) filed February 8, 2001 and 60/208,944 (E-147-96/5) filed May 31, 2000.

These application(s) disclose the use of ADNF polypeptides, ADNF and ADNF III/ADNP or the ADNF derived peptides SAL (SALLRSIPA) and NAP (NAPVSIPQ) to improve learning and memory. The peptides SAL and NAP are preferred because of their ability to cross the blood-brain barrier and for their ease of synthesis. The peptides, when given alone or in combination, either in utero or post-natally, improve performance related to learning and memory. Combinations of NAP and SAL are preferred for prenatal administration. NAP alone is preferred for post-natal administration. The ability to improve learning and memory when given in utero makes them attractive as candidates for the development of therapeutics for prevention or treatment of Down's Syndrome or Fragile X syndrome or other conditions associated with mental retardation. The ability to improve performance related to learning and memory in adults makes them attractive candidates for the development of therapeutics for Alzheimer's disease as well as Down's Syndrome or other conditions associated with mental retardation.

This work has been published, in part, at Gozes I, et al. “Activity-dependent neurotrophic factor: intranasal administration of femtomolar-acting peptides improve performance in a water maze” J Pharmacol Exp Ther, 293(3):1091-8 (Jun 2000).

Dated: July 6, 2001.
Jack Spiegel,
Director, Division of Technology, Development and Transfer, Office of Technology Transfer, National Institutes of Health.

[FR Doc. 01-17751 Filed 7-13-01; 8:45 am]

BILLING CODE 4140-01-P